DEPARTMENT OF COMMERCE

International Trade Administration

[A-520-807]

Circular Welded Carbon-Quality Steel Pipe From the United Arab Emirates: Amended Final Results of Antidumping Duty Administrative Review; 2017-2018

AGENCY: Enforcement and Compliance, International Trade Administration, Department of Commerce.

SUMMARY: The Department of Commerce (Commerce) is amending the final results of the administrative review of the antidumping duty (AD) order on circular welded carbon-quality steel pipe (CWP) from the United Arab Emirates (UAE) to correct a ministerial error.

DATES: Applicable January 5, 2021.

FOR FURTHER INFORMATION CONTACT: Benjamin Luberda, AD/CVD Operations, Office II, Enforcement and Compliance, International Trade Administration, U.S. Department of Commerce, 1401 Constitution Avenue NW, Washington, DC 20230; telephone: (202) 482-2185.

SUPPLEMENTARY INFORMATION:

Background

On December 1, 2020, Commerce published the Final Results of the 2017-2018 administrative review of CWP from the UAE in the Federal Register.¹ On November 30, 2020, Universal Tube and Plastic Industries, Ltd., KHK Scaffolding and Framework LLC, and THL Pipe and Tube Industries LLC (collectively, Universal), one of two companies selected for individual examination in this administrative review, alleged the existence of a ministerial error in Commerce's Final Results.²

¹ See Circular Welded Carbon-Quality Steel Pipe from the United Arab Emirates: Final Results of Antidumping Duty Administrative Review; 2017-2018, 85 FR 77159 (December 1, 2020) (Final Results), and accompanying Issues and Decision Memorandum.

² See Universal's Letter, “Circular Welded Carbon-Quality Steel Pipe from the United Arab Emirates—Ministerial Error Comments,” dated November 30, 2020.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and, if appropriate, correct any ministerial error by amending . . . the final results of review.”

³ See 19 CFR 351.224(f).

Ministerial Error

Commerce committed an inadvertent error within the meaning of section 751(h) of the Act and 19 CFR 351.224(f) by incorrectly calculating Universal's home market commissions. Accordingly, we determine, in accordance with section 751(h) of the Act and 19 CFR 351.224(f), that we made a ministerial error in the Final Results. Pursuant to 19 CFR 351.224(e), we are amending the Final Results to correct this error. This correction results in a change to Universal's weighted-average dumping margin and also changes the rate calculated for the non-individually-examined companies. For a detailed discussion of the ministerial error allegation, as well as Commerce's analysis, see Ministerial Error Memorandum.⁴

⁴ See Memorandum, “Less-Than-Fair-Value Administrative Review of Circular Welded Carbon-Quality Steel Pipe from the United Arab Emirates: Allegation of Ministerial Errors in the Final Determination,” dated concurrently with this notice (Ministerial Error Memorandum).

Correction

Subsequent to the publication of the notice in the Federal Register, we identified an inadvertent error in the Final Results in addition to the one alleged by Universal. Specifically, Commerce inadvertently referenced the review-specific rate of 3.14 percent as the all-others rate in the cash deposit section of the notice. However, the all-others rate, established in the investigation, is 5.95 percent.⁵ The corrected cash deposit section of the notice is below.

⁵ See Circular Welded Carbon-Quality Steel Pipe from the Sultanate of Oman, Pakistan, and the United Arab Emirates: Amended Final Affirmative Antidumping Duty Determination and Antidumping Duty Orders, 81 FR 91906, 91908 (December 19, 2016).

Amended Final Results of the Review

We are assigning the following weighted-average dumping margins to the firms listed below for the period December 1, 2017 through November 30, 2018:

Producers/exporters | Weighted-average dumping margin (percent)
Conares Metal Supply Ltd | 2.49
Universal Tube and Plastic Industries, Ltd./THL Tube and Pipe Industries LLC/KHK Scaffolding and Framework LLC ⁸ | 3.63
Review-Specific Average Rate Applicable to the Following Companies: ⁶
Abu Dhabi Metal Pipes and Profiles Industries Complex | 3.06
Ajmal Steel Tubes & Pipes Ind. L.L.C./Noble Steel Industries L.L.C. ⁷ | 3.06
Al Mansoori Industrial Supply | 3.06
Baker Hughes EHO Ltd | 3.06
BioAir Solutions LLC | 3.06
Bridgeway Shipping & Clearing Services, LLC | 3.06
Ferrofab FTZ | 3.06
Ferrolab LLC | 3.06
Global Steel Industries | 3.06
Halima Pipe Co., Ltd | 3.06
K.D. Industries Inc | 3.06
Lamprell | 3.06
Link Middle East Ltd | 3.06
Noble Marine Metals Co., W.L.L | 3.06
PSL FZE | 3.06
Reyah Metal Trading FZE | 3.06
Three Star Metal Ind LLC | 3.06
Tiger Steel Industries LLC | 3.06

Disclosure

⁶ This rate is based on the simple average of the margins calculated for those companies selected for individual review. Because we cannot apply our normal methodology of calculating a weighted-average margin due to requests to protect business proprietary information, we find this rate to be the best proxy of the actual weighted-average margin determined for the mandatory respondents. See Ball Bearings and Parts Thereof from France, et al.: Final Results of Antidumping Duty Administrative Reviews, Final Results of Changed-Circumstances Review, and Revocation of an Order in Part, 75 FR 53661, 53663 (September 1, 2010).

⁷ We collapsed Ajmal Steel Tubes and Pipes Ind. L.L.C. and Noble Steel Industries L.L.C. together in the final results of the 2016-2017 administrative review. See Circular Welded Carbon-Quality Steel Pipe from the United Arab Emirates: Final Results of Antidumping Duty Administrative Review; 2016-2017, 84 FR 44845 (August 27, 2019).

⁸ This rate was calculated as discussed in a n.6, supra.

We intend to disclose the calculations performed for these amended final results in accordance with 19 CFR 351.224(b).

Antidumping Duty Assessment

Pursuant to section 751(a)(2)(C) of the Act and 19 CFR 351.212(b)(1), Commerce has determined, and U.S. Customs and Border Protection (CBP) shall assess, antidumping duties on all appropriate entries of subject merchandise in accordance with the amended final results of this review.

Pursuant to 19 CFR 351.212(b)(1), because Conares Metal Supply Ltd and Universal reported the entered value of their U.S. sales, we calculated importer-specific ad valorem duty assessment rates based on the ratio of the total amount of dumping calculated for the examined sales to the total entered value of the sales for which entered value was reported. Where an importer-specific rate is zero or de minimis within the meaning of 19 CFR 351.106(c)(1), we will instruct CBP to liquidate the appropriate entries without regard to antidumping duties.

For the companies which were not selected for individual review, we will assign an assessment rate based on the average ⁸ of the cash deposit rates calculated for Conares Metal Supply Ltd and Universal. The amended final results of this review shall be the basis for the assessment of antidumping duties on entries of merchandise covered by the amended final results of this review and for future deposits of estimated duties, where applicable.⁹

⁹ See section 751(a)(2)(C) of the Act.

Commerce's “automatic assessment” practice will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.

We intend to issue liquidation instructions for Universal and the companies covered by the non-reviewed companies' rate to CBP 15 days after publication of these amended final results of this administrative review.

Cash Deposit Requirements

The following cash deposit requirements will be effective for all shipments of the subject merchandise entered, or withdrawn from warehouse, for consumption on or after December 1, 2020, the date of publication date of the Final Results of this administrative review, as provided by section 751(a)(2)(C) of the Act: (1) The cash deposit rate for each specific company listed above will be that established in the amended final results; (2) for previously reviewed or investigated companies, including those for which Commerce may have determined had no shipments during the POR, the cash deposit will continue to be the company-specific rate published for the most recently completed segment of this proceeding in which the company participated; (3) if the exporter is not a firm covered in this or an earlier review, or the original less-than-fair-value (LTFV) investigation, but the manufacturer is, the cash deposit rate will be the rate established for the most recently completed segment of this proceeding for the manufacturer of the merchandise; and (4) if neither the exporter nor the manufacturer is a firm covered in this or any previously completed segment of this proceeding, then the cash deposit rate will be the all-others rate of 5.95 percent established in the LTFV investigation.¹⁰ These deposit requirements, when imposed, shall remain in effect until further notice.

¹⁰ See Circular Welded Carbon-Quality Steel Pipe from the Sultanate of Oman, Pakistan, and the United Arab Emirates: Amended Final Affirmative Antidumping Duty Determination and Antidumping Duty Orders, 81 FR 91906 (December 19, 2016).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This amended notice is issued and published in accordance with sections 751(h) and 777(i) of the Act.

Dated: December 28, 2020.
Jeffrey I. Kessler,
Assistant Secretary for Enforcement and Compliance.

[FR Doc. 2020-29180 Filed 1-4-21; 8:45 am]

BILLING CODE 3510-DS-P